DEPARTMENT OF TRANSPORTATION

Federal Aviation Administration

Notice of Intent of Waiver With Respect to Land; Indianapolis International Airport, Indianapolis, Indiana

AGENCY: Federal Aviation Administration (FAA), DOT.

ACTION: Notice.

SUMMARY: The FAA is considering a proposal to change 1.423 acres of airport land from aeronautical use to non-aeronautical use of airport property located at Indianapolis International Airport, Indianapolis, Indiana. The aforementioned land is not needed for aeronautical use. The land is made up of one parcel and is located along the White River, just west of downtown Indianapolis, Indiana. It was the site of a decommissioned outer marker which has been removed and the land is vacant with no future aeronautical use. The Sponsor is proposing to release and ultimately sell the land to the City of Indianapolis in its revitalization efforts of Belmont Beach.

DATES: Comments must be received on or before September 18, 2023.

ADDRESSES: All requisite and supporting documentation will be made available for review by appointment at the FAA Chicago Airports District Office, Melanie Myers, Program Manager, 2300 East Devon Avenue, Des Plaines, Illinois 60018. Telephone: (847) 294-7525/Fax: (847) 294-7046 and Eric Anderson, Director of Properties, Indianapolis Airport Authority, 7800 Col. H. Weir Cook Memorial Drive, Indianapolis, IN 46241 Telephone: 317-487-5135.

Written comments on the Sponsor's request may be submitted using any of the following methods:

• Federal eRulemaking Portal: Go to http://www.regulations.gov, and follow the instructions for sending your comments electronically.

• Mail: Melanie Myers, Program Manager, Federal Aviation Administration, Chicago Airports District Office, 2300 East Devon Avenue, Des Plaines, Illinois 60018.

• Hand Delivery: Deliver to mail address above between 8 a.m. and 5 p.m. Monday through Friday, excluding Federal holidays.

• Fax: (847) 294-7046.

FOR FURTHER INFORMATION CONTACT: Melanie Myers, Program Manager, Federal Aviation Administration, Chicago Airports District Office, 2300 East Devon Avenue, Des Plaines, Illinois 60018. Telephone: (847) 294-7525/Fax: (847) 294-7046.

SUPPLEMENTARY INFORMATION: In accordance with section 47107(h) of title 49, United States Code, this notice is required to be published in the Federal Register 30 days before modifying the land-use assurance that requires the property to be used for an aeronautical purpose.

The land consists of one original airport acquired parcel. The parcel was acquired under Airport Improvement Program grant 3-18-0038-020 and local funding. The Sponsor is proposing to release the land from aeronautical to non-aeronautical use and intends to ultimately sell the land at fair market value for future public use. This is all vacant land and is not needed for aeronautical purposes.

The disposition of proceeds from any future sale of the airport property will be in accordance with FAA's Policy and Procedures Concerning the Use of Airport Revenue, published in the Federal Register on February 16, 1999 (64 FR 7696).

This notice announces that the FAA is considering the release of the subject airport property at the Indianapolis International Airport, Indianapolis, Indiana from federal land covenants, subject to a reservation for continuing right of flight as well as restrictions on the released property as required in FAA Order 5190.6B section 22.16. Approval does not constitute a commitment by the FAA to financially assist in the disposal of the subject airport property nor a determination of eligibility for grant-in-aid funding from the FAA.

Land Description

PART OF THE SOUTHWEST QUARTER OF SECTION 34 IN TOWNSHIP 16 NORTH, OF RANGE 3 EAST OF THE SECOND PRINCIPAL MERIDIAN, MORE PARTICULARLY DESCRIBED AS FOLLOWS:

BEGINNING IN THE WEST LINE OF SAID QUARTER SECTION AT A POINT DISTANT 2016.94 FEET NORTH OF THE SOUTHWEST CORNER THEREOF, SAID BEGINNING POINT BEING IN THE NORTH LINE OF THE WHITE RIVER BOULEVARD PER MISCELLANEOUS RECORD 694, PAGE 296 AS RECORDED IN THE OFFICE OF THE MARION COUNTY RECORDER; THENCE SOUTH 74 DEGREES 32 MINUTES 08 SECONDS EAST ALONG SAID NORTH LINE 112.26 FEET; THENCE NORTH 89 DEGREES 27 MINUTES 48 SECONDS EAST 69.52 FEET; THENCE SOUTH 00 DEGREES 32 MINUTES 12 SECONDS EAST 20.00 FEET TO A POINT ON A CURVE AND THE NORTH LINE OF WHITE RIVER BOULEVARD; THENCE TO THE RIGHT ON SAID CURVE AN ARC DISTANCE OF 203.28 FEET, SAID CURVE HAVING A RADIUS OF 1146.28 FEET AND SUBTENDED BY A CHORD BEARING SOUTH 85 DEGREES 22 MINUTES 52 SECONDS EAST 203.01 FEET; THENCE NORTH 05 DEGREES 45 MINUTES 37 SECONDS EAST 46.78 FEET TO THE SOUTHEAST CORNER OF THE LAND TRACT CONVEYED TO THE CITY OF INDIANAPOLIS FOR THE USE AND BENEFIT OF ITS BOARD OF FLOOD CONTROL COMMISSIONERS AND THE INDIANAPOLIS FLOOD CONTROL DISTRICT BY INSTRUMENT NUMBER 66-46498; THENCE NORTH 53 DEGREES 53 MINUTES 30 SECONDS WEST ALONG THE SOUTH LINE OF SAID LAND TRACT 480.34 FEET TO THE WEST LINE OF SAID SOUTHWEST QUARTER; THENCE SOUTH 00 DEGREES 40 MINUTES 43 SECONDS EAST ALONG SAID WEST LINE 264.00 FEET TO THE POINT OF BEGINNING.

CONTAINING 1.423 ACRES, MORE OR LESS.

Issued in Des Plaines, Illinois, on August 10, 2023.
Debra L. Bartell,
Manager, Chicago Airports District Office, FAA, Great Lakes Region.

[FR Doc. 2023-17706 Filed 8-16-23; 8:45 am]

BILLING CODE 4910-13-P